DEPARTMENT OF HEALTH AND HUMAN SERVICES

Centers for Disease Control and Prevention

Disease, Disability, and Injury Prevention and Control Special Emphasis Panel (SEP)— RFA-PS-23-002, Enhancing Telehealth Strategies To Support Retention and Adherence to Antiretroviral Therapy (ART), and RFA-PS-23-003, Exploring Preferences for Long-Acting Antiretroviral Therapies (LA-ART) in a Community-Based Sample of Priority Populations Living With HIV Who Are Disproportionately Affected; Amended Notice of Closed Meeting

Notice is hereby given of a change in the meeting of the Disease, Disability, and Injury Prevention and Control Special Emphasis Panel (SEP)— RFA-PS23-002, Enhancing Telehealth Strategies to Support Retention and Adherence to Antiretroviral Therapy (ART), and RFA-PS23-003, Exploring Preferences for Long-Acting Antiretroviral Therapies (LA-ART) in a Community-Based Sample of Priority Populations Living with HIV Who are Disproportionately Affected; May 11-12, 2023, 10 a.m.—5 p.m., EDT, teleconference, Centers for Disease Control and Prevention, 8 Corporate Boulevard, Room 1077, Atlanta, Georgia 30329, in the original Federal Register Notice. The meeting was published in the Federal Register on March 8, 2023, Volume 88, Number 45, page 14370.

The meeting is being amended to remove RFA-PS23-002, Enhancing Telehealth Strategies to Support Retention and Adherence to Antiretroviral Therapy (ART) and to remove the second day of the meeting. The notice should read as follows:

Name of Committee: Disease, Disability, and Injury Prevention and Control Special Emphasis Panel (SEP)—RFA-PS23-003, Exploring Preferences for Long-Acting Antiretroviral Therapies (LA-ART) in a Community-Based Sample of Priority Populations Living with HIV Who are Disproportionately Affected.

Date: May 11, 2023.

Time: 10 a.m.-5 p.m., EDT.

The meeting is closed to the public.

FOR FURTHER INFORMATION CONTACT: Gregory Anderson, M.S., M.P.H., Scientific Review Officer, National Center for HIV, Viral Hepatitis, STD, and TB Prevention, Centers for Disease Control and Prevention, 1600 Clifton Road NE, Mailstop US8-1, Atlanta, Georgia 30329-4027. Telephone: (404) 718-8833; Email: GAnderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-07996 Filed 4-14-23; 8:45 am]

BILLING CODE 4163-18-P